ENVIRONMENTAL PROTECTION AGENCY

[FRL-9989-26—Region 9]

Clean Air Act Prevention of Significant Deterioration Permit Issued to Tucson Electric Power for the Irvington Generating Station Project

AGENCY: Environmental Protection Agency (EPA).

ACTION: Notice of final action.

SUMMARY: This notice announces that the Pima County Department of Environmental Quality (PDEQ) issued a final permit decision to Tucson Electric Power for a Clean Air Act Prevention of Significant Deterioration (PSD) permit (Permit No. 1052) for the Irvington Generating Station Project (Project). The PDEQ is authorized to issue PSD permit decisions pursuant to a delegation agreement with the Environmental Protection Agency (EPA), Region IX (EPA Region IX), in which the PDEQ “stands in the shoes” of the EPA when administering certain elements of the PSD permitting program. The PDEQ's final permit decision is a federally-issued PSD permit decision and serves as a final agency action by the EPA.

DATES: The final PSD permit decision for the Project was issued and became effective on December 3, 2018. Pursuant to section 307(b)(1) of the Clean Air Act, 42 U.S.C. 7607(b)(1), judicial review of this final permit decision, to the extent it is available, may be sought by filing a petition for review in the United States Court of Appeals for the Ninth Circuit within 60 days of April 12, 2019.

ADDRESSES: The PDEQ established a web page for this action at http://webcms.pima.gov/cms/One.aspx?portalId=169&pageId=363558, where documents associated with this action, including the final PSD permit, is available. Please contact the PDEQ contact identified in the FOR FURTHER INFORMATION CONTACT section for additional information about accessing materials for this action. Additionally, anyone who wishes to review the EPA's Environmental Appeal Board's (EAB) decision described below or documents in the EAB's electronic docket for its decision can obtain them at http://www.epa.gov/eab.

FOR FURTHER INFORMATION CONTACT: Rupesh Patel, Air Quality Program Manager, PDEQ, (520) 724-7341, Rupesh.Patel@pima.gov or Lisa Beckham, Air Permits Office, EPA Region IX, (415) 972-3811, beckham.lisa@epa.gov.

Notice of Final Action And Supplementary Information: On August 8, 2018, the PDEQ issued PSD Permit No. 1052 to Tucson Electric Power under 40 CFR 124.15, authorizing the construction and operation of the Project. EPA regulations at 40 CFR 124.19 provided an opportunity for administrative review by the EPA's EAB of this initial permit decision. The EPA's EAB received one petition for review of the permit. By its own terms, and consistent with 40 CFR 124.15(b), the effective date of the permit was delayed as the result of the filing of a petition for review of the PDEQ's permit decision with the EAB.

On December 3, 2018, the EAB denied review of the permit decision. See In re Tucson Electric Power, PSD Appeal No. 18-02 (EAB Dec. 3, 2018) (Order Denying Review). Following the EAB's action, pursuant to 40 CFR 124.19(l)(2), the PDEQ issued a final permit decision on December 3, 2018. All conditions of the PSD permit, as initially issued by the PDEQ on August 8, 2018, were final and effective as of December 3, 2018.

Dated: December 26, 2018.
Elizabeth J. Adams,
Division Director, Region IX.

[FR Doc. 2019-01921 Filed 2-8-19; 8:45 am]

BILLING CODE 6560-50-P